DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Project: Uniform Application for the Community Mental Health Services Block Grant and Substance Abuse and Prevention Treatment Block Grant FY 2016-2017 Application Guidance and Instructions (OMB No. 0930-0168)—NEW

The Substance Abuse and Mental Health Services Administration (SAMHSA) is requesting an approval from the Office of Management and Budget (OMB) for an amendment to the FY 2016-2017 Uniform Application, Section III. Behavioral Health Assessment and Plan, C. Environmental Factors and Plan. The intent of this amendment is to gather information regarding the states' and jurisdictions' plans to implement elements of a syringe services program at 1 or more community-based organizations that receive amounts from the grant to provide substance use disorder treatment and recovery services to persons who inject drugs. In response to the emergence of prescription drug and heroin overdoses and associated deaths in many states and jurisdictions, SAMHSA issued guidance on April 2, 2014, to the states and jurisdictions regarding the use of SABG funds for prevention education and training regarding overdoses and the purchase of naloxone (Narcan®) and related materials to assemble overdose prevention kits.

Respondents are the 50 states and the jurisdictions (District of Columbia, the Commonwealth of Puerto Rico, the U.S. Virgin Islands, American Samoa, Commonwealth of Northern Mariana Islands, Federated States of Micronesia, Guam, Republic of Marshall Islands, Republic of Palau, and the Red Lake Band of Chippewa Indians of Minnesota).

The following reporting burden is based on estimates developed considering the State substance abuse and mental health authorities responsible for these activities and represents the average total hours to assemble, format, and produce the requested information.

Respondents | Number of respondents | Response per respondent | Total responses | Total burden | Hourly wage cost | Total hour cost
States and Jurisdictions | 60 | 1 | 60 | 40 hours per State (1500 hours) | $45.00 | $1800 per state/jurisdiction ($108,000 Total).

Link for the application, Guidance, and Amendment: http://www.samhsa.gov/grants/block-grants/.

Send comments to CAPT Gilbert Rose, SAMHSA SABG Team Lead, at SABG-SSP@samhsa.hhs.gov. Comments should be received by November 18, 2016.

This notice supersedes the Notice dated September 7, 2016.

Summer King,
Statistician.

[FR Doc. 2016-22467 Filed 9-16-16; 8:45 am]

BILLING CODE 4162-20-P